DEPARTMENT OF AGRICULTURE

Forest Service

Eastern Region Recreation Resource Advisory Committee

AGENCY: Forest Service, USDA.

ACTION: Notice of meeting.

SUMMARY: The Eastern Region Recreation Resource Advisory Committee (Recreation RAC) will meet in Cleveland, Ohio. The Recreation RAC is authorized pursuant with the Federal Lands Recreation Enhancement Act (the Act) (Pub. L. 108-447) and the Federal Advisory Committee Act (FACA) (5 U.S.C. App. II). Additional information concerning the Recreation RAC may be found by visiting the Recreation RAC's Web site at: http://www.fs.usda.gov/main/r9/recreation/racs.

DATES: The meeting will be held on Friday, October 14, 2016, from 8:30 a.m. to 4:00 p.m.

All Recreation RAC meetings are subject to cancellation. For status of the meeting prior to attendance, please contact the person listed under the FOR FURTHER INFORMATION CONTACT.

ADDRESSES: The meeting will be held at the Hilton Garden Inn Cleveland Airport, 4900 Emerald Court SW., Cleveland, Ohio. The meeting will also be available via teleconference. For anyone who would like to attend via teleconference, please visit the Web site listed in the SUMMARY section or contact the person listed under the FOR FURTHER INFORMATION CONTACT section.

Written comments may be submitted as described under SUPPLEMENTARY INFORMATION. All comments, including names and addresses, when provided, are placed in the record and available for public inspection and copying. The public may inspect comments received at the Eastern Region, Regional Office located at 626 E. Wisconsin Avenue, Milwaukee, Wisconsin. Please call 541-860-8048 to facilitate entry into the building.

FOR FURTHER INFORMATION CONTACT: Joanna Wilson, Eastern Region Recreation RAC Coordinator by phone at 541-860-8048, or by email at jwilson08@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Provide orientation to the new Recreation RAC members,

2. Elect a Chairperson, and

3. Review the Monongahela National Forest fee proposals which include the Blue Bend Campground, Island Campground, and the Cranberry Dump Station.

The meeting is open to the public. The agenda will include time for people to make oral statements of three minutes or less. Individuals wishing to make an oral statement should request in writing by September 23, 2016, to be scheduled on the agenda. Anyone who would like to bring related matters to the attention of the Recreation RAC may file written statements with the Committee's staff before or after the meeting. Written comments and time requests for time to make oral comments must be sent to Joanna Wilson, Eastern Region Recreation RAC Coordinator, 855 South Skylake Drive, Woodland Hills, Utah 84653; or by email to jwilson08@fs.fed.us.

Meeting Accommodations: If you require reasonable accommodation, please make requests in advance for sign language interpreting, assistive listening devices, or other reasonable accommodation. For access to the facility or proceedings, please contact the person listed in the section titled FOR FURTHER INFORMATION CONTACT. All reasonable accommodation requests are managed on a case-by case basis.

Dated: September 8, 2016.
Mary Beth Borst,
Deputy Regional Forester.

[FR Doc. 2016-23422 Filed 9-27-16; 8:45 am]

BILLING CODE 3411-15-P